OFFICE OF THE UNITED STATES TRADE REPRESENTATIVE

Extension of Deadline for the Submission of Public Comments on Draft Environmental Review of the Proposed U.S.-Chile Free Trade Agreement

AGENCY: Office of the United States Trade Representative.

ACTION: Extension of deadline for submission of comments via E-mail or Fax on the Draft Environmental Review of the Proposed U.S.-Chile Free Trade Agreement.

SUMMARY: The Office of the U.S. Trade Representative, through the Trade Policy Staff Committee, is extending the deadline for the submission of public comments via fax or E-mail for the draft environmental review of the proposed U.S.-Chile Free Trade Agreement form November 20, 2001 to January 9, 2002. The draft environmental review is available at http://www.ustr.gov/environment/environmental.shtml.

DATES: The new deadline for comments is January 9, 2002. Please note the comments at the present time may only be sent by fax to (202) 395-5141 or by E-mail to FR0002@ustr.gov.

FOR FURTHER INFORMATION CONTACT: Darci Vetter, Office of the U.S. Trade Representative, Environment and Natural Resources Section, telephone 202-395-7320.

SUPPLEMENTARY INFORMATION: The draft environmental review for the U.S.-Chile Free Trade Agreement was conducted pursuant to Executive Order 13141 on Environmental Review of Trade Agreements (64 FR 63169, Nov. 18, 1999) and its accompanying guidelines (65 FR 79442, Dec. 19, 2000), both of which are available at http://www.ustr.gov/environment/environmental.shtml. On November 5 of 2001, the Office of the U.S. Trade Representative requested public comments on the draft environmental review. The deadline for comments has been extended to reflect the extension of the U.S.-Chile FTA negotiations into early 2002. A final environmental review will be made publicly available following the conclusion of the U.S.-Chile Free Trade Agreement negotiations.

Carmen Suro-Bredie,
Chair, Trade Policy Staff Committee.

[FR Doc. 01-30965 Filed 12-12-01; 11:26 am]

BILLING CODE 3190-01-M